ENVIRONMENTAL PROTECTION AGENCY

[FRL-6712-3]

Science Advisory Board; Notification of Public Advisory Committee Meeting

Pursuant to the Federal Advisory Committee Act, Public Law 92-463, notice is hereby given that the Clean Air Scientific Advisory Committee (CASAC) will meet on Monday, June 26, 2000 from 11 am to 12 pm Eastern Daylight Time to review a report developed by its Technical Subcommittee on Fine Particle Monitoring. The meeting will be coordinated through a conference call connection in Room 6013 in the USEPA, Ariel Rios Building North, 1200 Pennsylvania Avenue, NW., Washington, DC 20460. The public is encouraged to attend the meeting in the conference room noted above. However, the public may also attend through a telephonic link, to the extent that lines are available (phone lines will be very limited). Additional instructions about how to participate in the meeting can be obtained by calling Ms. Diana Pozun prior to the meeting at (202) 564-4544, or via e-mail at <pozun.diana@epa.gov>.

Background

The CASAC Technical Subcommittee on Fine Particle Monitoring (the Subcommittee) was established in 1996 to provide advice and comment to EPA (through CASAC) on appropriate methods and network strategies for monitoring fine particles in the context of implementing the revised national ambient air quality standards (NAAQS) for particulate matter. The Subcommittee provided such advice on the Federal Reference Method (FRM) and mass-based fine particle network in July 1996, and has recently examined (at a public meeting on April 18-19, 2000) EPA's plans and guidance for several components of the fine particle monitoring network and how these components are linked to research priorities for particulate matter (see 65 Federal Register 16916, March 30, 2000 for more details). As a result of that meeting, the Subcommittee prepared a draft report advising the Agency on the PM2.5 Monitoring Network.

Purpose of the Meeting

At this meeting, the Clean Air Scientific Advisory Committee, chartered under 42 U.S.C. 7409, will review a report (Clean Air Scientific Advisory Committee Advisory on the PM2.5 Monitoring Network) developed by its Technical Subcommittee on Fine Particle Monitoring.

Availability of Review Materials

Single copies of the review document (Clean Air Scientific Advisory Committee Advisory on the PM2.5 Monitoring Network, draft dated May 31, 2000) are available from Ms. Diana Pozun, Clean Air Scientific Advisory Committee, Science Advisory Board (1400A), U.S. EPA, 1200 Pennsylvania Avenue, NW, Washington, DC 20460. Ms. Pozun can also be reached by telephone at (202) 564-4544, fax at (202) 501-0582, or e-mail: <pozun.diana@epa.gov>. The draft report is also available on the SAB Website (www.epa.gov/sab) under the Reports heading, and Draft Reports subheading.

For Further Information

Members of the public desiring additional information about the meeting should contact Mr. Robert Flaak, Designated Federal Officer, Clean Air Scientific Advisory Committee, Science Advisory Board (1400A), Suite 6450, U.S. EPA, 1200 Pennsylvania Avenue, NW., Washington, DC 20460; telephone/voice mail at (202) 564-4546; fax at (202) 501-0582; or via e-mail at <flaak.robert@epa.gov>. A copy of the draft agenda is available from Ms. Diana Pozun at (202) 564-4544 or by FAX at (202) 501-0582 or via e-mail at <pozun.diana@epa.gov>.

Members of the public who wish to make a brief oral presentation to the Subcommittee (in Room 6013 only) must contact Mr. Flaak in writing (by letter or by fax—see previously stated information) no later than 12 noon Eastern Daylight Savings Time, Monday, June 19, 2000 in order to be included on the Agenda. Public comments will be limited to five minutes per speaker or organization; 15 minutes total. The request should identify the name of the individual making the presentation, and the organization (if any) they will represent. Please note: If we receive more requests than we can accommodate, time of receipt in the CASAC office will determine priority, with the first three requests granted time. All others will have to provide written comments. Written comments of any length may be submitted to Mr. Flaak at any time until the date of the meeting. Please provide at least 25 copies. The Science Advisory Board expects that public statements presented at its meetings will not be repetitive of previously submitted oral or written statements.

Individuals requiring special accommodation at this meeting, including wheelchair access to the conference room, should contact Mr. Flaak at least five business days prior to the meeting so that appropriate arrangements can be made.

Dated: June 1, 2000.
John R. Fowle III,
Deputy Staff Director, Science Advisory Board.

[FR Doc. 00-14636 Filed 6-8-00; 8:45 am]

BILLING CODE 6560-50-P